DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This is a notice of intent to award supplemental funding to the National Center of Excellence for Infant and Early Childhood Mental Health Consultation (COE-IECMH) recipient funded in FY 2019 under Notice of Funding Opportunity (NOFO) SM-19-010. This is to inform the public that the Substance Abuse and Mental Health Services Administration (SAMHSA) is supporting an administrative supplement, which is consistent of the initial award, up to $900,000 (for one-year to Georgetown University). This supplement will provide continued support for the IECMH grantees in their efforts to strengthen their IECMH systems; working with state-level systems and leaders to integrate grantee innovations into ongoing initiatives, policies, and sustainable funding streams, and/or participate in the development of new IECMH efforts; share best practices and advances in infant and early childhood mental health with the early childhood field through webinars, presentations at conferences, and/or development of materials about specific grant programs that can be shared with local, Tribal, and state stakeholders; and conduct a virtual grantee meeting or policy academy to engage all grantees in peer learning and technical assistance. This is not a formal request for application. Assistance will only be provided to the COE-IECMH. This recipient was funded in FY 2019 under National Center of Excellence for Infant and Early Childhood Mental Health Consultation Grant, NOFO SM-19-010 with a project end date of April 30, 2023. This is not a formal request for application. Assistance will only be provided to the COE-IECMH grant recipient, Georgetown University, based on the receipt of a satisfactory application and associated budget that is approved by a review group.

FOR FURTHER INFORMATION CONTACT: Melinda J. Baldwin, Substance Abuse and Mental Health Services Administration, 5600 Fishers Lane, Rockville, MD 20857, telephone (240) 276-0579; email: melinda.baldwin@samhsa.hhs.gov.

SUPPLEMENTARY INFORMATION:

Funding Opportunity Title: FY 2019 National Center of Excellence for Infant and Early Childhood Mental Health Consultation Notice of Funding Opportunity (NOFO) SM-19-010.

Assistance Listing Number: 93.243.

Authority: The COE-IECMH grant is authorized under section 520A of the Public Health Service Act, as amended.

Justification: Eligibility for this supplemental funding is limited to Georgetown University, which was funded in FY 2019 under the National Center of Excellence for Infant and Early Childhood Mental Health Consultation grant program. Georgetown University has special expertise in completing activities that support IECMH grantees and their ability to improve outcomes for children through service provision to children and families, mental health consultation to early childhood programs, and training early childhood providers and clinicians.

Carlos Graham,
Reports Clearance Officer.

[FR Doc. 2022-18976 Filed 9-1-22; 8:45 am]

BILLING CODE 4162-20-P